DEPARTMENT OF HEALTH AND HUMAN SERVICES

Centers for Disease Control and Prevention

[60Day-04-37]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404)498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-E11, Atlanta, GA 30333. Written comments should be received within 60 days of this notice.

Proposed Project

Program Evaluation and Monitoring System for Health Departments and Community-Based Organizations—New—National Center for HIV, STD, and TB Prevention (NCHSTP), Centers for Disease Control and Prevention (CDC).

The purpose of this data collection is to collect HIV prevention evaluation data from health department and directly funded community-based organization (CBO) grantees using the electronic Program Evaluation and Monitoring System (PEMS). This proposed data collection will incorporate data elements from two currently approved data collections: Evaluating CDC Funded Health Department HIV Prevention Programs, OMB No. 0920-0497; and Assessing the Effectiveness of CBOs for the Delivery of HIV Prevention Programs, OMB No. 0920-0525.

CDC needs non-identifying, client-level, standardized evaluation data from health department and CBO grantees to: (1) More accurately determine the extent to which HIV prevention efforts have been carried out by assessing what types of agencies are providing services, what resources are allocated to those services, to whom services are being provided and how these efforts have contributed to a reduction in HIV transmission; (2) improve ease of reporting to better meet that goal; and (3) be accountable to stakeholders by informing them of efforts made and use of funds in HIV prevention nationwide.

Although CDC receives evaluation data from grantees, the data received to date is insufficient for evaluation and accountability. Furthermore, there has not been standardization of required evaluation data from both health departments and CBOs. Changes to the evaluation and reporting process have become necessary to ensure CDC receives standardized, accurate, thorough evaluation data from both health department and CBO grantees. For these reasons, CDC developed PEMS and consulted with representatives from health departments, CBOs, and the National Alliance of State and Territorial AIDS Directors during the development of PEMS.

Respondents will report general agency information; program model and budget; intervention plan and delivery characteristics; and client demographics and behavioral characteristics. After initial set-up of the PEMS, data collection will include searching existing data sources, gathering and maintaining data, document compilation, review of data, and data entry into a web-based system. Respondents will submit data quarterly. It is estimated that this process will take each health department 99 hours per quarter, and community-based organizations will take approximately 67 hours per quarter. There are no costs to respondents.

Respondents | Number of respondents | Number of responses per respondent | Average burden per response (in hours) | Total burden (in hours)
Health Departments | 65 | 4 | 99 | 25,740
CBOs | 150 | 4 | 67 | 40,200
Total |  |  |  | 65,940

Dated: March 26, 2004.
Joseph E. Salter,
Acting Director, Management Analysis and Services Office, Centers for Disease Control and Prevention.

[FR Doc. 04-7559 Filed 4-2-04; 8:45 am]

BILLING CODE 4163-18-P